DEPARTMENT OF HEALTH AND HUMAN SERVICES

Centers for Disease Control and Prevention

[60Day-22-1286; Docket No. CDC-2022-0029]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a proposed and/or continuing information collection, as required by the Paperwork Reduction Act of 1995. This notice invites comment on a proposed information collection project titled, Annual Reporting of the Rape Prevention and Education (RPE) Program. The RPE Program is the principal federally funded program focused on sexual violence (SV) prevention. This data collection allows CDC to collect information about the implementation and outcomes of CE19-1902 cooperative agreement.

DATES: CDC must receive written comments on or before May 2, 2022.

ADDRESSES: You may submit comments, identified by Docket No. CDC-2022-0029 by either of the following methods:

• Federal eRulemaking Portal: Regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; phone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Annual Reporting of the Rape Prevention and Education (RPE) Program (OMB Control No. 0920-1286, Exp. 3/31/2023)—Revision—National Center for Injury Prevention and Control (NCIPC), Centers for Disease Control and Prevention (CDC).

Background and Brief Description

This is a request for a Revision of the currently approved Annual Reporting of the Rape prevention and Education (RPE) Program collection (OMB Control No. 0920-1286, Exp. 03/31/2023). This Revision is being requested to continue to collect information related to implementation and outcomes annually from 53 recipients or their designated delegates funded through the funding opportunity, CE19-1902. Sexual violence (SV) is a major public health problem. One in three women and one in four men experienced SV involving physical contact during their lifetimes. Nearly one in five women and one in 38 men have experienced completed or attempted rape. SV starts early: One in three female and one in four male rape victims experienced it for the first time between 11-17 years old. CDC's Division of Violence Prevention (DVP) provides national leadership in prevention of SV perpetration and victimization before it begins (i.e., primary prevention). DVP administers the RPE Program, which provides funding to health departments in all 50 states, the District of Columbia (DC), Puerto Rico, Guam, the U.S. Virgin Islands, and the Commonwealth of Northern Mariana Islands.

The RPE Program is the principal federally funded program focused on SV primary prevention. Collecting information about the implementation and outcomes of CE19-1902 cooperative agreement through the online data system (DVP Partners Portal) is crucial to informing SV prevention nationally; enhancing accountability of the use of federal funds; providing timely program reports and responses to information requests, such as Congressional requests mandated by the authorizing legislation; improving real-time communications between CDC and RPE recipients; and strengthening CDC's capacity to provide responsive data-driven technical assistance and to monitor and evaluate recipients' progress and performance.

Information will be collected annually from recipients through the DVP Partners Portal. The DVP Partners Portal is organized by forms, which are further organized by sections and sub-sections. Recipients and program staff are able to review information reported in previous years within the DVP Partners Portal per their authenticated access. In addition, information from previous reports will be carried over and pre-populated for the next annual reporting as appropriate. Thus, with DVP Partners Portal most of the burden is required during the initial population of information (Year 1), Recipients will only need to enter changes, provide progress information, and add new information after Year 1.

CDC will use the information to be collected for the following:

• Enhance accountability of the use of federal funds

• Provide timely program reports and responses to information request

• Improve real-time communications between CDC and recipients

• Strengthen CDC's capacity to provide responsive and data-driven TA

• Strengthen CDC's capacity to monitor and evaluate recipients' progress and performance towards activities required as part of the cooperative agreement

• Allow both CDC and recipients to track their own state activities and outcomes, and ensure alignment between their state and local activities

• Generate a variety of routine and customizable reports specifically for each recipient and in aggregate nationally for CDC stakeholders

The total estimated annual burden for this collection is 424 hours. CDC is requesting a one-year approval. There is no cost to respondents other than their time.

Estimated Annualized Burden Hours
Type of respondents | Form name | Number of respondents | Number of responses per respondent | Average burden per response (in hours) | Total burden (in hours)
RPE-funded Health Departments (State, DC, and Territories) and their Designated Delegates | Annual Reporting—Initial Population Annual Reporting—Subsequent Reporting | 53 53 | 1 2 | 4 2 | 212 212
Total |  |  |  |  | 424

Jeffrey M. Zirger,
Lead, Information Collection Review Office, Office of Scientific Integrity, Office of Science, Centers for Disease Control and Prevention.

[FR Doc. 2022-04192 Filed 2-28-22; 8:45 am]

BILLING CODE 4163-18-P